OFFICE OF PERSONNEL MANAGEMENT

Excepted Service

AGENCY: Office of Personnel Management.

ACTION: Notice.

SUMMARY: This gives notice of OPM decisions, granting authority to make appointments under Schedules A, B and C in the excepted service as required by 5 CFR 6.6 and 213.103.

FOR FURTHER INFORMATION CONTACT: Deborah Grade, Director, Washington Services Branch, Center for Talent Services, Division for Human Resources Products and Services, (202) 606-5027.

SUPPLEMENTARY INFORMATION: Appearing in the listing below are the individual authorities established under Schedule C between June 1, 2003, and September 30, 2003. OPM also approved 1 Schedule A appointing authority in August 2003. Future notices will be published on the fourth Tuesday of each month, or as soon as possible thereafter. A consolidated listing of all authorities as of June 30 is published each year.

Schedule A

Department of State

Up to 250 time-limited positions within the Department of State in support of the June 2004 Economic Summit of Industrialized Nations. No new appointments may be made under this authority after June 30, 2004. Approved August 19, 2003.

Schedule B

No Schedule B appointments or revocations for June, July, August or September 2003.

Schedule C

The following Schedule C appointments were approved for June, July, August and September 2003:

Section 213.3303 Executive Office of the President, Council on Environmental Quality

EQGS00019 Associate Director for Communications to the Chairman. Effective July 18, 2003.

EQGS00018 Associate Director for Congressional Affairs to the Chairman. Effective August 12, 2003.

EQGS00020 Communications Analyst to the Associate Director for Communications. Effective August 14, 2003.

Office of Management and Budget

BOGS60010 Counselor to the Controller, Office of Federal Financial Management.

Effective June 25, 2003.

BOGS60023 Special Assistant to the Deputy Director for Management. Effective June 25, 2003.

BOGS60025 Confidential Assistant to the Deputy Director for Management. Effective July 01, 2003.

BOGS60033 Executive Assistant to the Director, Office of Management and Budget. Effective July 22, 2003.

BOGS00150 Policy Analyst (Portfolio Manager) to the Associate Director for E-Government and Information Technology. Effective August 06, 2003.

BOGS60011 Confidential Assistant to the Administrator, Office of Information and Regulatory Affairs. Effective August 07, 2003

BOGS60009 Legislative Analyst to the Assistant Director for Legislative Affairs. Effective September 05, 2003.

BOGS60031 Confidential Assistant to the Deputy Director, Office of Management and Budget. Effective September 12, 2003.

Office of the United States Trade Representative

TNGS00014 Confidential Assistant to the Chief Agriculture Negotiator. Effective July 30, 2003

Office of Science and Technology Policy

TSGS60030 Confidential Assistant to the Chief of Staff and General Counsel. Effective June 27, 2003.

TSGS60031 Special Assistant for Public Affairs to the Chief of Staff and General Counsel. Effective June 27, 2003.

Section 213.3304 Department of State

DSGS60444 Foreign Affairs Officer (Visits) to the Chief of Protocol. Effective June 09, 2003.

DSGS60381 Supervisory Protocol Officer (Visits) to the Deputy Chief of Protocol. Effective June 12, 2003.

DSGS60473 Coordinator for Intergovernmental Affairs to the Assistant Secretary for Public Affairs. Effective June 13, 2003.

DSGS60481 Administrative Officer to the Undersecretary for Management. Effective June 13, 2003.

DSGS60542 Public Affairs Specialist to the Assistant Secretary for Public Affairs. Effective June 13, 2003.

DSGS60585 Staff Assistant to the Managing Director, Office of Equal Opportunity and Civil Rights. Effective June 26, 2003.

DSGS60490 Staff Assistant to the Senior Advisor to the Secretary and White House Liaison. Effective June 27, 2003.

DSGS60497 Special Assistant to the Undersecretary for Management. Effective July 11, 2003.

DSGS60552 Public Affairs Specialist to the Assistant Secretary for Public Affairs. Effective July 18, 2003.

DSGS00341 Information Technology Specialist to the Assistant Secretary for Administration. Effective July 31, 2003

DSGS60438 Special Assistant to the Assistant Secretary for Economic and Business Affairs. Effective August 01, 2003.

DSGS60351 Staff Assistant to the Senior Advisor to the Secretary and White House Liaison. Effective August 06, 2003.

DSGS60550 Legislative Management Officer to the Assistant Secretary for Legislative and Intergovernmental Affairs. Effective August 07, 2003.

DSGS60504 Legislative Management Officer to the Assistant Secretary for Legislative and Intergovernmental Affairs. Effective September 04, 2003.

DSGS60417 Supervisory Foreign Affairs Officer to the Undersecretary for Global Affairs. Effective September 05, 2003.

DSGS60434 Special Assistant to the Senior Advisor to the Secretary and White House Liaison. Effective September 05, 2003.

DSGS60541 Foreign Affairs Officer to the Undersecretary for Global Affairs. Effective September 05, 2003.

DSGS60577 Public Affairs Specialist to the Undersecretary for Global Affairs. Effective September 05, 2003.

DSGS60610 Legislative Analyst to the Assistant Secretary for Legislative and Intergovernmental Affairs. Effective September 09, 2003.

DSGS60609 Program Analyst to the Undersecretary for Public Diplomacy and Public Affairs. Effective September 10, 2003.

DSGS60492 Staff Assistant to the Undersecretary for Arms Control And International Security. Effective September 10, 2003.

DSGS60506 Special Assistant to the Assistant Secretary for Public Affairs. Effective September 25, 2003.

DSGS60495 Foreign Affairs Officer to the Undersecretary for Public Diplomacy and Public Affairs. Effective September 26, 2003.

DSGS60508 Special Assistant to the Undersecretary for Arms Control and Security Affairs. Effective September 26, 2003.

DSGS60521 Staff Assistant to the Senior Advisor to the Secretary and White House Liaison. Effective September 26, 2003.

DSGS60539 Staff Assistant to the Undersecretary for Arms Control and Security Affairs. Effective September 29, 2003.

Section 213.3305 Department of the Treasury

DYGS00430 Senior Advisor to the Undersecretary for Domestic Finance. Effective June 18, 2003.

DYGS00433 Manager of Public and Legislative Affairs to the Director for Community Development and Financial Institutions. Effective June 27, 2003.

DYGS60379 Special Assistant for Advance to the Director of Strategic Planning, Scheduling and Advance. Effective July 15, 2003

DYGS00435 Director of Protocol to the Deputy Assistant Secretary (Departmental Offices Operations). Effective September 17, 2003.

DYGS60364 Deputy Assistant Secretary to the Assistant Secretary (Financial Institutions). Effective September 17, 2003.

DYGS60396 Senior Advisor to the Deputy Assistant Secretary (Public Liaison) to the Deputy Assistant Secretary (Public Liaison). Effective September 17, 2003.

DYGS00434 Special Assistant to the Deputy Chief of Staff. Effective September 26, 2003.

Section 213.3306 Office of the Secretary of Defense

DDGS00682 Staff Assistant to the Deputy Assistant Secretary of Defense (Asia and Pacific). Effective June 09, 2003.

DDGS16707 Defense Fellow to the Special Assistant to the Secretary of Defense for White House Liaison. Effective June 24, 2003.

DDGS16709 Defense Fellow to the Special Assistant to the Secretary of Defense for White House Liaison. Effective July 01, 2003.

DDGS00708 Personal and Confidential Assistant to the Assistant Secretary of Defense (International Security Affairs). Effective July 07, 2003.

DDGS00690 Director, Defense Continuity Program Office to the Deputy Undersecretary of Defense (Policy Support). Effective July 10, 2003.

DDGS16711 Personal and Confidential Assistant to the Principal Deputy Undersecretary of Defense for Policy. Effective July 10, 2003.

DDGS16678 Special Assistant to the Principal Deputy Assistant Secretary of Defense (Legal Affairs). Effective July 29, 2003.

DDGS00714 Special Assistant to the Undersecretary of Defense (Policy). Effective August 04, 2003.

DDGS16561 Special Assistant to the Director of Defense Research and Engineering. Effective August 04, 2003.

DDGS00736 Special Assistant to the Principal Deputy Undersecretary of Defense. Effective September 03, 2003.

DDGS00716 Staff Assistant to the Deputy Undersecretary of Defense (Special Plans and Near East/South Asian Affairs). Effective September 09, 2003.

DDGS16740 Confidential Assistant to the Secretary of Defense. Effective September 09, 2003.

DDGS00749 Staff Assistant to the Assistant Secretary of Defense (International Security Affairs). Effective September 15, 2003.

DDGS16718 Public Affairs Specialist to the Assistant Secretary of Defense (Public Affairs). Effective September 23, 2003.

Section 213.3307 Department of the Army

DWGS00084 Personal and Confidential Assistant to the Undersecretary of the Army. Effective September 15, 2003.

Section 213.3309 Department of the Air Force

DFGS60008 Confidential Assistant to the General Counsel. Effective September 03, 2003.

Section 213.3310 Department of Justice

DJGS00441 Counsel to the Assistant Attorney General Tax Division. Effective June 06, 2003.

DJGS00219 Principal Deputy Director to the Director of the Bureau of Justice Assistance. Effective June 10, 2003.

DJGS00218 Special Assistant to the Assistant Attorney General for Justice Programs. Effective June 12, 2003.

DJGS60346 Deputy Director and Senior Advisor to the Director, Office of Public Affairs. Effective June 16, 2003.

DJGS00413 Executive Assistant to the United States Attorney. Effective June 18, 2003.

DJGS00035 Counsel (Senior Attorney) to the Administrator, Drug Enforcement Administration. Effective June 20, 2003.

DJGS00235 Senior Advisor to the Director, Office of Public Affairs. Effective June 23, 2003.

DJGS00036 Chief of Staff to the Administrator, Drug Enforcement Administration. Effective July 07, 2003.

DJGS00077 Secretary to the United States Attorney. Effective July 11, 2003.

DJGS00186 Counsel to the Deputy Attorney General. Effective July 18, 2003.

DJGS00028 Director of Congressional Affairs to the Administrator, Drug Enforcement Administration. Effective July 24, 2003.

DJGS00220 Deputy Director for Programs to the Director of the Bureau of Justice Assistance. Effective July 25, 2003.

DJGS60287 Special Assistant to the Assistant Attorney General Criminal Division. Effective August 11, 2003.

DJGS00283 Confidential Assistant to the Director. Effective August 12, 2003.

DJGS00303 Associate Director to the Director. Effective August 12, 2003.

DJGS60097 Assistant to the Attorney General. Effective August 18, 2003.

DJGS60185 Counsel to the Deputy Attorney General. Effective September 15, 2003.

DJGS00286 Special Assistant to the Assistant Attorney General Criminal Division. Effective September 16, 2003.

DJGS00333 Special Assistant to the Assistant Attorney General. Effective September 23, 2003.

Section 213.3311 Department of Homeland Security

DMGS00073 Staff Assistant to the Executive Secretary. Effective June 04, 2003.

DMGS00081 Executive Assistant to the Executive Director, Homeland Security Advisory Council. Effective June 04, 2003.

DMGS00082 Research Coordination Officer to the Executive Secretary. Effective June 04, 2003.

DMGS00077 Press Secretary to the Assistant Secretary for Public Affairs. Effective June 05, 2003.

DMGS00080 Director of Communications for Immigration and Customs Enforcement to the Assistant Secretary for Public Affairs. Effective June 12, 2003.

DMGS00071 Executive Assistant to the Undersecretary for Emergency Preparedness and Response. Effective June 13, 2003.

DMGS00085 Confidential Assistant to the Assistant Secretary for Information Analysis. Effective June 13, 2003.

DMGS00089 Executive Assistant to the Undersecretary for Emergency Preparedness and Response. Effective June 13, 2003.

DMGS00083 Press Assistant to the Director of Communications. Effective June 19, 2003.

DMGS00088 Research Assistant to the Director of Speechwriting. Effective June 19, 2003.

DMGS00086 Writer-Editor to the Director of Speechwriting. Effective June 20, 2003.

DMGS00084 Staff Assistant to the Assistant Secretary for Plans, Programs and Budgets. Effective June 23, 2003.

DMGS00091 Confidential Assistant to the Director, National Capital Region Coordination. Effective June 30, 2003.

DMGS00092 Staff Assistant to the Assistant Secretary for Border and Transportation Security Policy. Effective July 02, 2003.

DMGS00090 Press Secretary to the Executive Officer. Effective July 03, 2003.

DMGS00094 Policy Assistant to the Chief of Staff. Effective July 11, 2003.

DMGS00097 Policy Analyst to the Special Assistant. Effective July 17, 2003.

DMGS00095 Policy Director for Immigration to the Assistant Secretary for Border and Transportation Security Policy. Effective July 21, 2003.

DMGS00099 Operations Officer to the Deputy Chief of Staff (Operations). Effective July 29, 2003.

DMGS00101 Director/Executive Secretariat, Private Sector Advisory Committee to the Special Assistant. Effective July 29, 2003.

DMGS00106 Director of Communications for Information Analysis and Infrastructure Protection to the Director of Communications. Effective July 30, 2003.

DMGS00093 Staff Assistant to the Chief of Staff. Effective August 01, 2003.

DMGS00098 Special Assistant to the Undersecretary for Information Analysis and Infrastructure Protection. Effective August 06, 2003.

DMGS00110 Public Affairs Specialist to the Chief of Staff. Effective August 07, 2003.

DMGS00113 Press Assistant to the Press Secretary (Science and Technology). Effective August 07, 2003.

DMGS00011 Executive Assistant to the Chief of Staff. Effective August 11, 2003.

DMGS00105 Executive Assistant to the Director, State and Local Affairs. Effective August 12, 2003.

DMGS00108 Director of Communications to the Chief of Staff. Effective August 12, 2003.

DMGS00115 Policy Analyst to the Special Assistant. Effective August 13, 2003.

DMGS00103 Public Affairs Specialist to the Director of Communications. Effective August 14, 2003.

DMGS00114 Director, Office of Policy to the Chief of Staff. Effective August 14, 2003.

DMGS00117 Special Assistant to the Undersecretary for Management. Effective August 20, 2003.

DMGS00118 Special Assistant for Administration to the Chief of Staff. Effective August 20, 2003.

DMGS00112 Executive Assistant to the Chief of Staff. Effective August 25, 2003.

DMGS00124 Chief Information Officer for Science and Technology to the Undersecretary for Science and Technology. Effective August 28, 2003.

DMGS00104 Staff Assistant to the Officer of Civil Rights and Civil Liberties. Effective August 29, 2003.

DMGS00116 Staff Assistant to the Chief of Staff. Effective September 03, 2003

DMGS00126 Director of Communications for Bureau of Citizenship and Immigration Services to the Director of Communications. Effective September 03, 2003.

DMGS00109 Business Liaison to the Special Assistant. Effective September 04, 2003.

DMGS00122 Director of Legislative Affairs for Science and Technology to the Assistant Secretary for Legislative Affairs. Effective September 05, 2003.

DMGS00111 Senior Editor and Correspondence Analyst to the Executive Secretary. Effective September 10, 2003.

DMGS00123 Assistant Director of Legislative Affairs for Border and Transportation Security to the Assistant Secretary for Legislative Affairs. Effective September 12, 2003.

DMGS00129 Executive Assistant to the Director, Office of International Affairs. Effective September 12, 2003.

DMGS00131 Legislative Assistant to the Assistant Secretary for Legislative Affairs. Effective September 12, 2003.

DMGS00130 Director of Special Projects to the Director of Communications. Effective September 23, 2003.

DMGS00119 Director, Public Affairs Division to the Undersecretary for Emergency Preparedness and Response. Effective September 24, 2003.

DMGS00134 Writer-Editor (Speechwriter) to the Director of Speechwriting. Effective September 24, 2003.

DMGS00125 Writer-Editor to the Executive Secretary. Effective September 26, 2003.

DMGS00132 Director of Communications for Information Analysis and Infrastructure Protection to the Director of Communications. Effective September 26, 2003.

Section 213.3312 Department of the Interior

DIGS01019 Confidential Assistant to the Senior Advisor to the Secretary for Alaskan Affairs. Effective July 30, 2003.

DIGS01020 Special Assistant to the Deputy Assistant Secretary Indian Affairs. Effective July 31, 2003

DIGS01022 Senior Advisor to the Assistant Secretary for Fish and Wildlife and Parks. Effective August 29, 2003

DIGS60068 Associate Director to the Director, Congressional and Legislative Affairs. Effective September 05, 2003.

Section 213.3313 Department of Agriculture

DAGS60231 Director, Legislative and Public Affairs Staff to the Deputy Undersecretary for Rural Development. Effective June 10, 2003.

DAGS00189 Director, Native American Programs to the Assistant Secretary for Administration. Effective June 13, 2003.

DAGS00190 Confidential Assistant to the Administrator, Farm Service Agency. Effective June 27, 2003.

DAGS00191 Special Assistant to the Administrator, Farm Service Agency. Effective June 27, 2003.

DAGS00192 Special Assistant to the Chief Information Officer. Effective July 11, 2003.

DAGS00194 Director, Native American Programs to the Director of Civil Rights. Effective August 14, 2003.

DAGS00196 Confidential Assistant to the Director of Civil Rights. Effective August 27, 2003

Section 213.3314 Department of Commerce

DCGS00507 Confidential Assistant to the Deputy Assistant Secretary for Export Promotion Services. Effective June 06, 2003.

DCGS00444 Senior Advisor to the Assistant Secretary for Economic Development. Effective June 09, 2003.

DCGS00686 Director of Advance to the Chief of Staff. Effective June 25, 2003.

DCGS00275 Special Assistant to the Director, Office of Business Liaison. Effective June 26, 2003.

DCGS00438 Special Assistant to the Director, Office of Business Liaison. Effective July 01, 2003.

DCGS00693 Senior Policy Advisor to the Undersecretary for Oceans and Atmosphere. Effective July 22, 2003.

DCGS60350 Deputy Director to the Director, Office of Business Liaison. Effective July 22, 2003.

DCGS00065 Confidential Assistant to the Assistant Secretary for Economic Development. Effective July 23, 2003.

DCGS00161 Confidential Assistant to the Undersecretary for International Trade. Effective July 23, 2003.

DCGS00218 Senior Advisor to the Regional Administrator for the Northwest Region. Effective August 06, 2003.

DCGS00359 Confidential Assistant to the Assistant Secretary for Market Access and Compliance. Effective August 07, 2003.

DCGS00468 Special Assistant to the Undersecretary for Export Administration. Effective August 14, 2003

DCGS00227 Confidential Assistant to the Director, Minority Business Development Agency. Effective September 05, 2003.

DCGS00576 Deputy Director, Office of Advance to the Director of Advance. Effective September 09, 2003.

DCGS00425 Director of Public Affairs to the Undersecretary for International Trade. Effective September 12, 2003.

DCGS00202 Legislative Affairs Specialist to the Assistant Secretary for Congressional and Intergovernmental Affairs. Effective September 22, 2003.

DCGS00447 Confidential Assistant to the Director of Scheduling. Effective September 25, 2003

Section 213.3315 Department of Labor

DLGS60094 Director of Media Affairs to the Assistant Secretary for Public Affairs. Effective June 06, 2003.

DLGS60044 Attorney Advisor (Labor) to the Solicitor of Labor. Effective June 10, 2003.

DLGS60168 Intergovernmental Officer to the Assistant Secretary for Congressional and Intergovernmental Affairs. Effective June 13, 2003.

DLGS60210 Special Assistant to the Director, Office of Faith-Based and Community Initiatives. Effective June 13, 2003.

DLGS60011 Staff Assistant to the Chief Financial Officer. Effective June 20, 2003.

DLGS60182 Special Assistant to the Deputy Secretary of Labor. Effective June 25, 2003.

DLGS60139 Special Assistant to the Assistant Secretary for Public Affairs. Effective June 30, 2003.

DLGS60153 Special Assistant to the Deputy Undersecretary for International Affairs. Effective July 29, 2003.

DLGS60092 Senior Advisor to the Director, 21st Century Workforce. Effective August 07, 2003.

DLGS60117 Special Assistant to the Assistant Secretary for Employment Standards. Effective August 12, 2003.

DLGS60231 Staff Assistant to the Director, 21st Century Workforce. Effective August 14, 2003.

DLGS60217 Senior Legislative Officer to the Assistant Secretary for Congressional and Intergovernmental Affairs. Effective August 15, 2003.

DLGS60125 Special Assistant to the Chief of Staff. Effective August 25, 2003.

DLGS60267 Speechwriter to the Assistant Secretary for Administration and Management. Effective August 27, 2003.

DLGS60135 Staff Assistant to the Director of Public Liaison. Effective September 11, 2003.

DLGS60009 Regional Representative to the Assistant Secretary for Congressional and Intergovernmental Affairs. Effective September 12, 2003.

DLGS60109 Regional Representative to the Assistant Secretary for Congressional and Intergovernmental Affairs. Effective September 12, 2003.

DLGS60015 Legislative Officer to the Assistant Secretary for Congressional and Intergovernmental Affairs. Effective September 22, 2003.

DLGS60025 Senior Intergovernmental Officer to the Director, Office of Faith-Based and Community Initiatives. Effective September 22, 2003.

DLGS60189 Special Assistant to the Chief Financial Officer. Effective September 22, 2003.

DLGS60244 Special Assistant to the Director, Office of Faith-Based and Community Initiatives. Effective September 29, 2003.

Section 213.3316 Department of Health and Human Services

DHGS60519 Speechwriter to the Deputy Assistant Secretary for Public Affairs (Policy and Communications). Effective June 16, 2003.

DHGS60525 Confidential Assistant to the Director, Executive Operations. Effective June 16, 2003.

DHGS60119 Special Assistant to the White House Liaison to the Director of Intergovernmental Affairs. Effective July 02, 2003.

DHGS60171 Special Assistant to the Principal Deputy Assistant Secretary for Health to the Deputy Assistant Secretary for Health. Effective July 02, 2003.

DHGS60244 Regional Director, Seattle, Washington, Region 10 to the Deputy Secretary, Department of Health and Human Services. Effective July 11, 2003.

DHGS60031 Deputy Director, President's Council on Physical Fitness and Sports to the Executive Director, President's Council on Physical Fitness and Sports. Effective July 14, 2003.

DHGS60126 Confidential Assistant to the Assistant Secretary for Legislation to the Deputy Assistant Secretary for Legislation (Health). Effective August 12, 2003.

DHGS60539 Special Assistant to the General Counsel. Effective August 13, 2003.

DHGS60344 Special Assistant for the Deputy Assistant Secretary (Health) to the Deputy Assistant Secretary for Legislation (Health). Effective September 05, 2003.

DHGS60345 Director of Public Affairs to the Assistant Secretary Administrator for Children and Families. Effective September 05, 2003.

DHGS60667 Confidential Assistant to the Executive Secretary. Effective September 11, 2003.

DHGS60119 Special Assistant to the White House Liaison to the Director of Intergovernmental Affairs. Effective September 12, 2003.

DHGS60129 Special Assistant to the Administrator Centers for Medicare and Medicaid Services. Effective September 29, 2003.

Section 213.3317 Department of Education

DBGS00269 Special Assistant to the Deputy Assistant Secretary. Effective June 04, 2003.

DBGS00270 Confidential Assistant to the Deputy Chief of Staff for Operations. Effective June 04, 2003.

DBGS00271 Special Assistant to the Chief of Staff. Effective June 06, 2003.

DBGS00272 Special Assistant to the Chief of Staff to the Undersecretary. Effective June 16, 2003.

DBGS00277 Special Assistant to the Special Assistant. Effective June 19, 2003.

DBGS00278 Special Assistant to the Assistant Secretary for Legislation and Congressional Affairs. Effective June 20, 2003.

DBGS00276 Confidential Assistant to the Chief of Staff. Effective June 26, 2003.

DBGS00279 Special Assistant to the Deputy Assistant Secretary for Intergovernmental, Constituent Relations and Corporate Liaison. Effective June 27, 2003.

DBGS00281 Confidential Assistant to the Chief of Staff to the Undersecretary. Effective June 27, 2003.

DBGS00274 Deputy Secretary's Regional Representative to the Deputy Assistant Secretary for Regional Services. Effective June 30, 2003.

DBGS00280 Confidential Assistant to the Chief of Staff to the Deputy Secretary. Effective July 08, 2003.

DBGS00282 Confidential Assistant to the Chief of Staff. Effective July 10, 2003.

DBGS00284 Confidential Assistant (Protocol) to the Deputy Chief of Staff for Operations. Effective July 16, 2003.

DBGS00286 Confidential Assistant to the Assistant Secretary for Elementary and Secondary Education. Effective August 04, 2003.

DBGS00287 Confidential Assistant to the Assistant Secretary for Legislation and Congressional Affairs. Effective August 06, 2003.

DBGS00258 Confidential Assistant to the Assistant Secretary for Management/Chief Information Officer. Effective August 11, 2003.

DBGS00289 Special Assistant to the Deputy Assistant Secretary for Intergovernmental, Constituent Relations and Corporate Liaison. Effective August 11, 2003.

DBGS00288 Confidential Assistant to the Assistant Secretary for Legislation and Congressional Affairs. Effective August 13, 2003.

DBGS00285 Special Assistant (Education Attache to the U.S. Mission to the United Nations Educational, Scientific and Cultural Organization) to the Secretary. Effective August 21, 2003.

DBGS00273 Special Assistant to the Assistant Secretary for Elementary and Secondary Education. Effective July 18, 2003.

DBGS00292 Confidential Assistant to the Deputy Chief of Staff for Operations. Effective September 09, 2003.

DBGS00291 Special Assistant to the Assistant Secretary for Special Education and Rehabilitative Services. Effective September 10, 2003.

DBGS00290 Confidential Assistant to the Deputy Assistant Secretary. Effective September 17, 2003.

DBGS00295 Confidential Assistant to the Deputy Director of Communications, Office of Public Affairs. Effective September 23, 2003.

DBGS00296 Special Assistant to the Director, Faith-Based and Community Initiatives Center. Effective September 25, 2003.

DBGS00293 Confidential Assistant to the Assistant Secretary for Civil Rights. Effective September 26, 2003.

DBGS00294 Special Assistant (Deputy Director, White House Liaison) to the Special Assistant (White House Liaison). Effective September 26, 2003.

Section 213.3318 Environmental Protection Agency

EPGS03604 Supervisory Program Analyst to the Associate Administrator for Congressional and Intergovernmental Relations. Effective June 04, 2003.

EPGS03603 Program Analyst to the Associate Administrator for Congressional and Intergovernmental Relations. Effective June 12, 2003.

EPGS03605 Administrative Assistant to the Assistant Administrator for Enforcement and Compliance Assurance. Effective August 22, 2003.

Section 213.3325 United States Tax Court

JCGS60075 Trial Clerk to the Chief Judge. Effective July 08, 2003.

JCGS60079 Trial Clerk to the Chief Judge. Effective July 25, 2003.

JCGS60057 Secretary (Confidential Assistant) to the Chief Judge. Effective August 06, 2003.

JCGS60058 Secretary (Confidential Assistant) to the Chief Judge. Effective August 11, 2003.

JCGS60055 Secretary (Confidential Assistant) to the Chief Judge. Effective September 17, 2003

Section 213.3327 Department of Veterans Affairs

DVGS60060 Special Assistant to the Assistant Secretary for Congressional and Legislative Affairs. Effective September 22, 2003.

Section 213.3328 Broadcasting Board of Governors

IBGS00013 Chief of Staff to the Director, Office of Cuba Broadcasting. Effective August 19, 2003.

IBGS00014 Confidential Assistant to the Director, Office of Cuba Broadcasting. Effective August 20, 2003.

Section 213.3330 Securities and Exchange Commission

SEOT60011 Staff Assistant to the Managing Executive for External Affairs. Effective August 28, 2003.

Section 213.3331 Department of Energy

DEGS00331 Advance and Trip Coordinator to the Director, Office of Scheduling and Advance. Effective June 04, 2003.

DEGS00332 Senior Advance Representative to the Director, Office of Scheduling and Advance. Effective June 04, 2003.

DEGS00333 Senior Advance Representative to the Director, Office of Scheduling and Advance. Effective June 04, 2003.

DEGS00330 Confidential Assistant to the Assistant Secretary for Environment, Safety and Health. Effective June 09, 2003.

DEGS00267 Special Assistant to the Assistant Secretary for Fossil Energy. Effective June 17, 2003.

DEGS00334 Special Assistant to the Secretary, Department of Energy. Effective June 17, 2003.

DEGS00289 Special Assistant to the Assistant Secretary of Energy (Environmental Management). Effective June 18, 2003.

DEGS00337 Policy Analyst/External Affairs to the Assistant Secretary for International Affairs. Effective June 30, 2003.

DEGS00335 Senior Policy Analyst to the Assistant Secretary for International Affairs. Effective July 10, 2003.

DEGS00342 Trip Coordinator to the Director, Office of Scheduling and Advance. Effective July 21, 2003.

DEGS00344 Deputy Director of Advance for Strategic Initiatives to the Director, Office of Scheduling and Advance. Effective July 29, 2003.

DEGS00347 Special Assistant to the Assistant Secretary of Energy (Environmental Management). Effective July 31, 2003.

DEGS00340 Policy Advisor to the Deputy Assistant Secretary to the Assistant Secretary for Fossil Energy. Effective August 01, 2003.

DEGS00341 Confidential Assistant to the Deputy Administrator for Defense Programs, National Nuclear Proliferation. Effective August 6, 2003.

DEGS00346 Communications Assistant to the Chief of Staff. Effective August 11, 2003.

DEGS00348 Policy Advisor to the Director, Office of Science. Effective September 05, 2003.

Section 213.3332 Small Business Administration

SBGS60093 Director of Scheduling to the Chief of Staff. Effective July 02, 2003.

SBGS60542 Assistant Administrator for Policy Planning and Programs to the Administrator. Effective July 08, 2003.

SBGS60550 Assistant Administrator to the Associate Administrator for Congressional and Legislative Affairs. Effective August 07, 2003.

SBGS60124 Special Assistant to the Associate Administrator for Congressional and Legislative Affairs. Effective August 14, 2003.

SBGS60540 Assistant Administrator for the Office of Policy and Planning to the Administrator. Effective September 10, 2003.

SBGS60551 Assistant Administrator for Congressional and Legislative Affairs to the Associate Administrator for Congressional and Legislative Affairs. Effective September 12, 2003.

SBGS60179 Press Secretary to the Associate Administrator for Communications/Public Liaison. Effective September 15, 2003.

SBGS60108 Speechwriter to the Associate Administrator for Communications/Public Liaison. Effective September 24, 2003.

Section 213.3337 General Services Administration

GSGS00088 Special Assistant to the Regional Administrator, Northwest Artic Region to the Regional Administrator, Region 10, Auburn, Washington. Effective June 25, 2003.

GSGS60117 Senior Advisor to the Chief of Staff. Effective July 03, 2003.

Section 213.3339 United States International Trade Commission

TCGS00012 Confidential Assistant to a Commissioner. Effective September 29, 2003.

Section 213.3346 Selective Service System

SSGS00001 Public Affairs Specialist to the Deputy Director. Effective June 13, 2003.

Section 213.3348 National Aeronautics and Space Administration

NNGS30115 White House Liaison to the Administrator. Effective June 27, 2003.

Section 213.3353 Merit Systems Protection Board

MPGS60012 Senior Advisor to a Board Member. Effective June 20, 2003.

Section 213.3355 Social Security Administration

SZGS60007 Special Assistant to a Commissioner. Effective June 09, 2003.

SZGS60008 Special Assistant to the Chief of Staff. Effective June 9, 2003.

SZGS60009 Executive Assistant to the Deputy Commissioner for Communications. Effective June 13, 2003.

SZGS00010 Special Assistant to the Deputy Commissioner for Communications. Effective September 10, 2003.

Section 213.3356 Commission on Civil Rights

CCGS00025 Special Assistant to a Commissioner. Effective June 4, 2003.

CCGS60029 Special Assistant to Commissioner. Effective August 11, 2003.

Section 213.3360 Consumer Product Safety Commission

PSGS00066 Supervisory Public Affairs Specialist to the Executive Director. Effective August 28, 2003.

Section 213.3382 National Endowment for the Arts

NAGS60049 Deputy Congressional Liaison to the Director, Office of Government Affairs. Effective September 12, 2003.

Section 213.3382 National Endowment for the Humanities

NHGS60075 Director of Communications to the Deputy Chairman. Effective June 8, 2003.

Section 213.3384 Department of Housing and Urban Development

DUGS60276 Staff Assistant to the Assistant Secretary for Housing, Federal Housing Commissioner. Effective June 25, 2003.

DUGS60263 Special Assistant to the Assistant Secretary for Public Affairs. Effective June 27, 2003.

DUGS60314 Staff Assistant to the Senior Advisor to the Deputy Secretary. Effective July 15, 2003.

DUGS60460 Assistant to the Secretary and White House Liaison to the Deputy Secretary, Housing and Urban Development. Effective August 20, 2003.

DUGS60143 Faith-Based and Community Initiatives Coordinator to the Director, Center for Faith-Based and Community Initiatives. Effective September 10, 2003.

DUGS60461 Staff Assistant to the Secretary, Housing and Urban Development. Effective September 10, 2003.

DUGS60279 Associate Deputy Assistant Secretary for Fair Housing and Equal Opportunity to the Assistant Secretary for Fair Housing and Equal Opportunity. Effective September 29, 2003.

DUGS60463 Executive Secretary to the Assistant Secretary for Administration. Effective September 30, 2003.

Section 213.3391 Office of Personnel Management

PMGS00037 Chief, Office of House Affairs, to the Director, Office of Congressional Relations. Effective June 25, 2003.

PMGS00040 Chief of Administration and Confidential Assistant to the Director, Office of Congressional Relations. Effective July 18, 2003.

PMGS00042 Special Assistant to the Deputy Director. Effective July 22, 2003

PMGS00041 Special Assistant (Senior Speech Writer) to the Director, Office of Communications. Effective August 11, 2003.

PMGS00039 Special Assistant to the Chief of Staff. Effective August 18, 2003.

PMGS00043 White House Liaison to the Chief of Staff. Effective August 25, 2003.

Section 213.3392 Federal Labor Relation Authority

FAGS6022 Executive Assistant to the Chairman. Effective August 28, 2003.

Section 213.3394 Department of Transportation

DTGS60003 Special Assistant to the Secretary and Deputy Director for Scheduling and Advance to the Secretary. Effective June 12, 2003.

DTGS60363 Director of Policy and Program Support to the Administrator. Effective July 11, 2003.

DTGS60251 Senior Policy Advisor to the Administrator. Effective August 11, 2003.

DTOT60366 Special Assistant to the Deputy Administrator for National Parks Air Tour Management to the Deputy Administrator. Effective August 19, 2003.

DTGS60017 Assistant to the Secretary for Policy to the Secretary. Effective September 3, 2003.

DTGS60279 Associate Director for Speechwriting to the Assistant to the Secretary and Director of Public Affairs. Effective September 3, 2003.

DTGS60070 Special Assistant to the Assistant Secretary for Governmental Affairs. Effective September 23, 2003.

Section 213.3396 National Transportation Safety Board

TBGS60003 Special Assistant to the Chairman. Effective August 27, 2003.

TBGS60093 Confidential Assistant to a Member. Effective September 17, 2003.

Section 213.3397 Federal Housing Finance Board

FBOT00003 Special Assistant for External Affairs to the Chairman. Effective June 16, 2003.

Authority: 5 U.S.C. 3301 and 3302; E.O. 10577; 3 CFR 1954-1958 Comp., P. 218.

Office of Personnel Management.
Kay Coles James,
Director.

[FR Doc. 03-28314 Filed 11-10-03; 8:45 am]

BILLING CODE 6325-38-U